DEPARTMENT OF TRANSPORTATION

Federal Highway Administration

Environmental Impact Statement: Utah and Wasatch Counties, Utah

AGENCY: Federal Highway Administration (FHWA) DOT.

ACTION: Notice of intent.

SUMMARY: The FHWA is issuing this notice to advise the public that a second supplement to a final environmental impact statement will be prepared for a proposed highway project in Utah and Wasatch Counties, Utah.

FOR FURTHER INFORMATION CONTACT: William Gedris, Environmental Coordinator, Federal Highway Administration, 2520 West 4700 South, Suite 9A, Salt Lake City, Utah 84118, Telephone: (801) 963-0078 ext, 243; or Dan Nelson, Utah Department of Transportation, Region 3, 825 North 900 West, Orem, Utah 84057, Telephone: (801) 222-3406.

SUPPLEMENTARY INFORMATION: The FHWA, in cooperation with the Utah Department of Transportation (UDOT), will prepare a second supplement to the final environmental impact statement (EIS) with route termini at the existing interchange of Interstate 15 with Utah Route 52 (800 North) in Orem on the west and the intersection of U.S. Highway 189 with U.S. Highway 40 approximately 0.8 km (½ mile) south of Heber City on the east. An 8 km (5 mile) section of the 5/40.2 km (25 mile) route, from the western terminus to Murdock Diversion in Provo Canyon, has been improved to a four-land facility. This original project proposed to widen and realign approximately 35.4 km (22 miles) of U.S. Highway 189 between its junctions with Utah Route 52 at Olmstead and U.S. Highway 40 near Heber City in Utah and Wasatch Counties, Utah, including 3.2 km (2 miles) of improved roadway between Olmstead and Murdock Diversion. The original EIS for the improvements (FHWA-UT-EIS-76-02-F) was approved in 1978, and a Supplemental EIS (SEIS) (FHAW-UT-EIS- 76-02-FS) was prepared and approved on November 9, 1989. The purpose of the project is to improve the safety and traffic carrying capacity of the highway by correcting substandard geometrics and other unsafe conditions. The proposed improvements will provide four lanes divided by a median with minimum pavement and clear zone widths.

Under the first SEIS, four project segments were defined. The lower segment of the project from Murdock Diversion to Vivian Park (9.3 km [5.8] miles]) has been completed, and the second segment from Vivian Park to Wildwood (1.9 km [1.2 miles]) is under construction and nearly complete. Preliminary design for the third segment from Wildwood to Deer Creek State Park (5.3 miles) has been completed and an environmental re-evaluation was completed and approved July 15, 1995. The fourth segment from Deer Creek State Park to Herber City (16.4 km [10.2 miles]) remains at the conceptual design level provided in the 1989 SEIS. Since some changes in design and construction, as well as traffic use, may have occurred since the 1989 SEIS, the project will be restudied to insure that the design parameters and environmental considerations are appropriate. The Preferred Alternative developed as a part of the first SEIS and partially modified in the 1995 Wildwood to Deer Creek State Park Re-evaluation will be the focus for this study.

Comments are being solicited from appropriate Federal, State, and local agencies and from private organizations and citizens who have previously expressed or are known to have interest in this proposal. Several public scoping and information meetings and a public hearing will be held during the course of the analysis. Public notice will be given of the time and place of the meetings and hearing. The draft SEIS will be available for public and agency review prior to the public hearing.

To ensure that the full range of issues related to this proposed action are addressed and all significant issues identified, comments and suggestions are invited from all interested parties. Comments and/or questions concerning this proposed action and the EIS should be directed to the FHWA or UDOT at the addresses provided above.

(Catalog of Federal Domestic Assistance Program Number 20.205, Highway Planning and Construction. The regulations implementing Executive Order 12372 regarding intergovernmental consultation on Federal programs and activities apply to this program.)

Dated: Issued on: February 17, 2000.
Michael G. Ritchie,
Division Administrator, Salt Lake City, Utah.

[FR Doc. 00-4372 Filed 2-23-00; 8:45 am]

BILLING CODE 4910-22-M